DEPARTMENT OF COMMERCE

National Oceanic and Atmospheric Administration

[Docket No. 150114039-5245-02]

RIN 0648-XD719

Higher Initial Maximum Uniform Allowance Rate; Uniform Allowances

AGENCY: National Marine Fisheries Service (NMFS), National Oceanic and Atmospheric Administration (NOAA), Commerce.

ACTION: Final notice.

SUMMARY: The NMFS Office of Law Enforcement (OLE) publishes this notice to announce that it is establishing a higher initial maximum uniform allowance to procure and issue uniform items for its uniformed enforcement officers (EOs). Current OPM regulations allow an agency to establish one or more initial maximum uniform allowance rates greater than the government-wide maximum uniform allowance rate. OLE increases the current annual limit for NMFS EOs in order to maintain the uniform standards and professional image expected of its EOs under its new uniform standards.

DATES: The new uniform allowance is implemented as of April 1, 2015.

FOR FURTHER INFORMATION CONTACT: Everett Baxter, 301-427-8272.

SUPPLEMENTARY INFORMATION: NMFS is implementing a higher initial maximum uniform allowance to procure and furnish uniform items for its enforcement officers (EOs). The current $800.00 annual limit is inadequate to maintain the uniform standards and professional image expected of NMFS EOs under its new uniform standards. In addition, OLE now has a new uniform policy requiring five classes of uniforms. In the past, EOs only had two classes of uniforms. As a result of these two factors, OLE increases the initial maximum uniform allowance for EOs from $800 to $2,000.

OLE published a notice with a request for comments in the Federal Register on January 30, 2015 (80 FR 5091) inviting public comments on this planned action. The comment period ended on March 2, 2015. No comments were received. Therefore, NMFS is proceeding with establishing the higher initial maximum uniform allowance rate for its EOs. The effective date of this new uniform allowance is April 1, 2015.

Authority: 5 U.S.C. 5903; E.O. 12748, 56 FR 4521, 3 CFR 1991 Comp., p. 316.

Dated: March 17, 2015.
Logan Gregory,
Acting Director, Office of Law Enforcement, National Marine Fisheries Service.

[FR Doc. 2015-06433 Filed 3-19-15; 8:45 am]

BILLING CODE 3510-22-P